SECURITIES AND EXCHANGE COMMISSION

Sunshine Act Meeting

Federal Register Citation of Previous Announcement: [76 FR 34277, June 13, 2011].

STATUS: Open meeting.

PLACE: 100 F Street, NE., Washington, DC.

DATE AND TIME OF PREVIOUSLY ANNOUNCED MEETING: Wednesday, June 22, 2011 at 10 a.m.

CHANGE IN THE MEETING: Time change.

The Open Meeting scheduled for Wednesday, June 22, 2011 10 a.m. has been changed to Wednesday, June 22, 2011 at 11 a.m.

At times, changes in Commission priorities require alterations in the scheduling of meeting items. For further information and to ascertain what, if any, matters have been added, deleted or postponed, please contact the Office of the Secretary at (202) 551-5400.

Dated: June 21, 2011.
Elizabeth M. Murphy,
Secretary.

[FR Doc. 2011-15824 Filed 6-21-11; 4:15 pm]

BILLING CODE 8011-01-P